DEPARTMENT OF TRANSPORTATION

Office of the Secretary

[Docket No. DOT-OST-OST-2022-0131]

Privacy Act of 1974; System of Records

AGENCY: Office of the Departmental Chief Information Officer, Office of the Secretary of Transportation, DOT.

ACTION: Notice of a new system of records.

SUMMARY: In accordance with the Privacy Act of 1974, the Department of Transportation (DOT) proposes to establish a new system of records (hereafter referred to as “Notice”) titled, “Department of Transportation, Federal Aviation Administration DOT/FAA 855 Science, Technology, Engineering, and Math (STEM) Aviation and Space Education (AVSED) Outreach Program.” This system of records allows the Federal Aviation Administration (FAA) to collect, use, maintain, and disseminate the records needed for students, parents, teachers, and other similar educators to register for outreach events and contests that are hosted by the FAA. This includes collecting, using, maintaining, and disseminating information when complying with the Children's Online Privacy Protection Act of 1998 (COPPA), 15 U.S.C. 6501-6506 (2001) requirement to obtain parental consent. Additionally, this system of records will provide FAA with a means to document participation, and completion of FAA outreach events and contests.

DATES: Submit comments on or before December 28, 2022. The Department may publish an amended Systems of Records Notice considering any comments received. This new system will be effective immediately upon publication. The routine uses will be effective December 28, 2022.

ADDRESSES: You may submit comments, identified by docket number OST-2022-0131 by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251. Instructions: You must include the agency name and docket number OST-2022-0131. All comments received will be posted without change to http://www.regulations.gov, including any personal information provided.

Privacy Act: Anyone is able to search the electronic form of all comments received in any of our dockets by the name of the individual submitting the comment (or signing the comment, if submitted on behalf of an association, business, labor union, etc.).

Docket: For access to the docket to read background documents or comments received, go to http://www.regulations.gov or to the street address listed above. Follow the online instructions for accessing the docket.

FOR FURTHER INFORMATION CONTACT: For questions, please contact Karyn Gorman, Acting Departmental Chief Privacy Officer, Privacy Office, Department of Transportation, Washington, DC 20590; privacy@dot.gov; or 202-366-3140.

SUPPLEMENTARY INFORMATION:

Background

In accordance with the Privacy Act of 1974, 5 U.S.C. 552a, the DOT FAA proposes to issue a new system of records notice titled, “DOT/FAA 855 Science, Technology, Engineering, and Math (STEM) Aviation and Space Education (AVSED) Outreach Program.” The STEM AVSED Program has been an integral part of FAA outreach and the national education system for decades. The program was established to expose students to aviation and aerospace careers and to promote STEM education and outreach events.

One example of these outreach events is the recently established Airport Design Challenge (ADC). The ADC is a program that teaches children how to build an airport to FAA specifications using Minecraft gaming software as an online design platform. The program, like many of the FAA's STEM education and outreach programs, is open to children in grades K-12. In order to enter into an outreach event or contest, students, parents or legal guardians, teachers, and other similar educators need to create a user account, for themselves or for students they wish to register. The student's name, username, and password, grade category (kindergarten through 6th or 7th through 12th), email address, and country that the student resides in will be provided by student, parent, teachers or other similar educators. The parent or legal guardian of the minor student will provide the information and in addition to the child's information, provide their name, email address, home address, and phone number (optional).

Some of STEM AVSED's outreach events, including the ADC, may involve collection of personal information from children; in these instances, the FAA collects additional information from parents and legal guardians in accordance with the Children's Online Privacy Protection Act of 1998 (COPPA), 15 U.S.C. 6501-6506 (2001). Specifically, under COPPA, parents or legal guardians of children under thirteen years of age must provide consent for the collection, use, or disclosure of the personal information of their children collected on FAA websites and other online services. To ensure parents are aware of and have control of information collected from their children, the FAA obtains verifiable parental consent from the child's parent prior to collecting any information online from the child. At times, to ensure full transparency, the FAA obtains verifiable parental consent for student users who are thirteen and over as well as those under thirteen.

The FAA at times may use third party vendors to verify parents' identities and facilitate the process of obtaining parental consent. The third-party vendor's platform streamlines the consent process by using automated process to verify the identity of a person designated as the parent of any child enrolled in our program. The FAA will collect the parent's email address, student grade category (kindergarten through 6th or 7th through 12th), and country the child currently resides in, and provide the information to the third-party vendor. The third-party vendor will use the information provided to send the parent an email in order to confirm the identity of the parent/legal guardian and verify that the parent/legal guardian consents to the collection, use, or disclosure of the personal information of any child that they wish to enroll in the STEM AVSED Program. The third-party vendor will notify the FAA if verifiable parental consent is confirmed.

Parents and legal guardians can opt out of having their identity verified by the third-party vendor. In those instances, the FAA will obtain the parent's or legal guardian's consent through a form that parents will print, sign, and then scan and email back to the FAA. No information in addition to what is referenced above will be collected.

Once verifiable parental consent is confirmed, all students will complete the outreach event or contest in which they have selected to attend. However, this system of record will maintain records on contest completion, the students' placement in the contest, awards earned and/or received, and certificate of completion.

Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records Notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

SYSTEM NAME AND NUMBER:

Department of Transportation, Federal Aviation Administration, DOT/FAA 855 Science, Technology, Engineering, and Math (STEM) Aviation and Space Education (AVSED) Outreach Program.

SECURITY CLASSIFICATION:

Sensitive, unclassified

SYSTEM LOCATION(S):

FAA Office of Human Resource Management (AHR) 1350 Duane Avenue Santa Clara, CA 95054. Blackboard Managed Hosting (BMH) facility in the Chantilly, VA backup site at Equinix,c/o Blackboard, Inc., 1350 Duane Avenue Santa Clara, CA 95054.

SYSTEM MANAGER(S):

Office of Human Resource Management (AHR) 1350 Duane Avenue Santa Clara, CA 95054. Contact information for system manager is avsed.challenge@faa.gov.

AUTHORITY FOR MAINTENANCE OF THE SYSTEM:

Children's Online Privacy Protection Act of 1998 (COPPA), 15 U.S.C. 6501-6506 (2001); Airport and Airway Development Act of 1970, Public Law 94-353; National and Community Service Act of 1990, 49 U.S.C. 12501; and Title VI: Aviation Workforce of the FAA Reauthorization Act of 2018 (Pub. L. 115-254).

PURPOSE(S) OF THE SYSTEM:

The purpose of this system of record notice is for students, parents, teachers, and other similar educators to register students for outreach events and contests that are hosted or organized by the FAA; document participation, and completion of FAA outreach events and contest; and obtain verifiable parental consent so that the FAA complies with COPPA requirements.

CATEGORIES OF INDIVIDUALS COVERED BY THE SYSTEM:

This system contains information on individuals and participants that are enrolled or wishing to participate in FAA contests and events, such as the Airport Design Challenge Contest, to include but are not limited to the students, parents, legal guardians, or teachers of minor children enrolled.

CATEGORIES OF RECORDS IN THE SYSTEM:

Categories of records include name, username and password, grade category (kindergarten through 6th or 7th through 12th), email address, student's country of residence, home address, and phone number (optional). In addition, course completions, grade (pass/fail), and certificate of completion will also be included in the categories of records.

RECORD SOURCE CATEGORIES:

Sources of records includes students, parents, legal guardians, teachers or other similar educators and third-party vendors.

ROUTINE USES OF RECORDS MAINTAINED IN THE SYSTEM, INCLUDING CATEGORIES OF USERS AND THE PURPOSES OF SUCH USES:

In addition to those disclosures generally permitted 5 U.S.C. 552a(b) of the Privacy Act, all or a portion of the records or information contained in this system may be disclosed outside of DOT FAA as a routine use pursuant to 5 U.S.C. 552a(b)(3) as follows:

System Specific Routine Uses:

1. The FAA will share the parent or legal guardian's email address, student grade category (kindergarten through 6th or 7th through 12th) and country that the student lives with any vendor performing verifiable parental consent. This information will be used to identify, verify, and obtain consent of the parent or legal guardian for their child to attend an educational program. If parents or legal guardians opt out of using the third-party vendor for this process, the FAA will not disclose their information to the third party vendor.

2. To other individuals or organizations, including Federal, State, or local agencies, and nonprofit, educational, or private entities, who are participating in FAA STEM programs as necessary for the purpose of assisting FAA in the efficient administration of its program.

3. To educational institutions or training providers as evidence of participation or successful completion, as needed to continue education.

Departmental Routine Uses:

4. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

5. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant or other benefit.

6. A record from this system of records may be disclosed, as a routine use, to a Federal agency, in response to its request, in connection with the hiring or retention of an employee, the issuance of a security clearance, the reporting of an investigation of an employee, the letting of a contract, or the issuance of a license, grant, or other benefit by the requesting agency, to the extent that the information is relevant and necessary to the requesting agency's decision on the matter.

7a. Routine Use for Disclosure for Use in Litigation. It shall be a routine use of the records in this system of records to disclose them to the Department of Justice or other Federal agency conducting litigation when (a) DOT, or any agency thereof, or (b) Any employee of DOT or any agency thereof, in his/her official capacity, or (c) Any employee of DOT or any agency thereof, in his/her individual capacity where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

7b. Routine Use for Agency Disclosure in Other Proceedings. It shall be a routine use of records in this system to disclose them in proceedings before any court or adjudicative or administrative body before which DOT or any agency thereof, appears, when (a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

8. The information contained in this system of records will be disclosed to the Office of Management and Budget, OMB in connection with the review of private relief legislation as set forth in OMB Circular No. A-19 at any stage of the legislative coordination and clearance process as set forth in that Circular.

9. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

10. One or more records from a system of records may be disclosed routinely to the National Archives and Records Administration in records management inspections being conducted under the authority of 44 U.S.C. 2904 and 2906.

11. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress, and the public, published by the Director, OMB, dated September 20, 1989.

12a. To appropriate agencies, entities, and persons when (1) DOT suspects or has confirmed that there has been a breach of the system of records; (2) DOT has determined that as a result of the suspected or confirmed breach there is a risk of harm to individuals, DOT (including its information systems, programs, and operations), the Federal Government, or national security; and (3) the disclosure made to such agencies, entities, and persons is reasonably necessary to assist in connection with DOT's efforts to respond to the suspected or confirmed breach or to prevent, minimize, or remedy such harm.

12b. To another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

13. DOT may disclose records from this system, as a routine use, to the Office of Government Information Services for the purpose of (a) resolving disputes between FOIA requesters and Federal agencies and (b) reviewing agencies' policies, procedures, and compliance in order to recommend policy changes to Congress and the President.

14. DOT may disclose records from this system, as a routine use, to contractors and their agents, experts, consultants, and others performing or working on a contract, service, cooperative agreement, or other assignment for DOT, when necessary to accomplish an agency function related to this system of records.

15. DOT may disclose records from this system, as a routine use, to an agency, organization, or individual for the purpose of performing audit or oversight operations related to this system of records, but only such records as are necessary and relevant to the audit or oversight activity. This routine use does not apply to intra-agency sharing authorized under Section (b)(1) of the Privacy Act.

POLICIES AND PRACTICES FOR STORAGE OF RECORDS:

Records are stored in a hard copy format and electronically in databases.

POLICIES AND PRACTICES FOR RETRIEVAL OF RECORDS:

Records are primarily retrievable by name and email address.

POLICIES AND PRACTICE FOR RETENTION AND DISPOSAL OF RECORDS:

Personal information collected by FAA for the purpose of participating in contests and outreach events are maintained only as long as necessary for participation in and administration of the outreach activity. Student, parent or legal guardian, or teacher account registration information is maintained in accordance with National Archives and Records Administration (NARA) General Records Schedules (GRS) 6.5 item 20 (DAA-GRS-2017-0002-0002) and is destroyed after six months after account inactivity. Other information collected for participation in an outreach program is maintained in accordance with NARA schedule GRS 5.2 item 10 (DAA-GRS-2017-0003-0001). These records are typically destroyed no more than 90 days after the conclusion of the outreach program. Information collected from children may be deleted at the request of their parent or guardian. Additionally, the FAA is developing a new records retention and disposition schedule for STEM AVSED Program de-identified statistical records. FAA proposes to maintain these records for 10 years. The new records retention and disposition schedule is pending approval of NARA, and FAA will maintain the records indefinitely until NARA's approval.

ADMINISTRATIVE, TECHNICAL, AND PHYSICAL SAFEGUARDS:

Records in this system are safeguarded in accordance with applicable rules and policies, including all applicable DOT FAA automated systems security and access policies. Strict controls have been imposed to minimize the risk of compromising the information that is being stored. Access to the computer system containing the records in this system is limited to individuals who have a need to know the information for the performance of their official duties and who have appropriate clearances or permissions.

RECORD ACCESS PROCEDURES:

Individuals seeking notification of whether this system of records contains information about them may contact the System Manager at the address provided in the section “System Manager”. When seeking records about yourself from this system of records or any other Departmental system of records your request must conform to the Privacy Act regulations set forth in 49 CFR part 10. You must sign your request and your signature must either be notarized or submitted under 28 U.S.C. 1746, a law that permits statements to be made under penalty of perjury as a substitute for notarization. If your request is seeking records pertaining to another living individual, you must include a statement from that individual certifying his/her agreement for you to access his/her records.

CONTESTING RECORDS PROCEDURE:

See “Record Access Procedures” above.

NOTIFICATION PROCEDURE:

See “Record Access Procedures” above.

EXEMPTIONS PROMULGATED FOR THE SYSTEM:

None.

HISTORY:

None.

Issued in Washington, DC.
Karyn Gorman,
Acting Chief Privacy Officer.

[FR Doc. 2022-25847 Filed 11-25-22; 8:45 am]

BILLING CODE P